GENERAL SERVICES ADMINISTRATION

[OMB Control No. 3090-0246; Docket No. 2025-0001; Sequence No. 1]

Information Collection; General Services Administration Acquisition Regulation; Packing List Clause

AGENCY: Office of Acquisition Policy, General Services Administration (GSA).

ACTION: Notice; request for comments.

SUMMARY: Under the provisions of the Paperwork Reduction Act of 1995, GSA invites the public to comment on a request to review and approve an extension of a previously approved information collection requirement regarding the packing list clause.

DATES: Submit comments on or before July 7, 2025.

ADDRESSES: Submit comments identified by Information Collection 3090-0246 via http://www.regulations.gov. Submit comments via the Federal eRulemaking portal by searching the OMB control number 3090-0246. Select the link “Submit a Comment” that corresponds with “Information Collection 3090-0246, Packing List Clause”. Follow the instructions provided at the “Submit a Comment” screen. Please include your name, company name (if any), and “Information Collection 3090-0246, Packing List Clause” on your attached document.

Instructions: Please submit comments only and cite Information Collection 3090-0246, Packing List Clause, in all correspondence related to this collection. Comments received generally will be posted without change to http://www.regulations.gov, including any personal and/or business confidential information provided. To confirm receipt of your comment(s), please check www.regulations.gov, approximately two-to-three days after submission to verify posting.

FOR FURTHER INFORMATION CONTACT: Mr. Thomas O'Linn, Procurement Analyst, at telephone 202-445-0390, or via email at at GSARpolicy@gsa.gov.

SUPPLEMENTARY INFORMATION:

A. Purpose

General Services Administration Acquisition Regulation (GSAR) clause 552.211-77, Packing List, and its Alternate I require a contractor to include a packing list or other suitable document for purposes of providing order and shipping information. In addition to information contractors normally include within packing lists and other suitable documents, the identification of the cardholder name, telephone number, and the term “Credit Card” is required when a Governmentwide commercial purchase card is being used as the method of payment.

B. Annual Reporting Burden

Estimated Respondents: 14,342.

Estimated Responses per Respondent: 7.

Total Estimated Annual Responses: 100,396.

Estimated Hours per Response: .05.

Total Estimated Burden Hours: 5,020.

Total Estimated Annual Cost to the Public: 146,981.

C. Public Comments

Public comments are particularly invited on: Whether this collection of information is necessary and whether it will have practical utility; whether our estimate of the public burden of this collection of information is accurate and based on valid assumptions and methodology; ways to enhance the quality, utility, and clarity of the information to be collected.

Obtaining Copies of Proposals: Requesters may obtain a copy of the information collection documents from the GSA Regulatory Secretariat Division, by calling 202-501-4755 or emailing GSARegSec@gsa.gov.

Jeffrey A. Koses,
Senior Procurement Executive, Office of Acquisition Policy, Office of Government-wide Policy.

[FR Doc. 2025-07843 Filed 5-5-25; 8:45 am]

BILLING CODE P